FEDERAL RETIREMENT THRIFT INVESTMENT BOARD

Sunshine Act Meeting

Time and Date: 11:30 a.m. (EDT); correction, December 15, 2003.

Place: 4th Floor, Conference Room, 1250 H Street, NW., Washington, DC.

AGENCY: Federal Retirement Thrift Investment Board.

ACTION: Notice; correction.

SUMMARY: The Federal Retirement Thrift Investment Board published a notice in the Federal Register on Friday, December 5, 2003, concerning upcoming Board member meeting.

Correction:

In the Federal Register of Friday, December 5, 2003, Vol. 68, No. 234, page 68093, first column, change the time caption to read: 11:30 a.m.

FOR FURTHER INFORMATION CONTACT: Thomas J. Trabucco, Director, Office of External Affairs, (202) 942-1640.

Dated: December 8, 2003.
Elizabeth S. Woodruff,
Secretary to the Board, Federal Retirement Thrift Investment Board.

[FR Doc. 03-30713 Filed 12-8-03; 1:07 pm]

BILLING CODE 6760-01-P